DEPARTMENT OF TRANSPORTATION

Federal Aviation Administration

14 CFR Part 71

[Docket No. FAA-2013-0708; Airspace Docket No. 13-AWP-11]

Establishment of Class E Airspace, Amendment of Class D and Class E Airspace, and Revocation of Class E Airspace; Salinas, CA

AGENCY: Federal Aviation Administration (FAA), Department of Transportation (DOT).

ACTION: Final rule.

SUMMARY: This action establishes Class E airspace and modifies Class D airspace and Class E airspace at Salinas, CA, to accommodate aircraft departing and arriving under Instrument Flight Rules (IFR) at Salinas Municipal Airport. This action also removes Class E airspace designated as surface area. Adjustments to the geographic coordinates of the airport also are made in the respective Class D airspace and Class E airspace areas. This action, initiated by the biennial review of the Salinas airspace area, enhances the safety and management of aircraft operations at the airport.

DATES: Effective date, 0901 UTC, April 3, 2014. The Director of the Federal Register approves this incorporation by reference action under 1 CFR Part 51, subject to the annual revision of FAA Order 7400.9 and publication of conforming amendments.

FOR FURTHER INFORMATION CONTACT: Richard Roberts, Federal Aviation Administration, Operations Support Group, Western Service Center, 1601 Lind Avenue SW., Renton, WA 98057; telephone (425) 203-4517.

SUPPLEMENTARY INFORMATION:

History

On October 22, 2013, the FAA published in the Federal Register a notice of proposed rulemaking (NPRM) to amend controlled airspace at Salinas, CA (78 FR 62498). Interested parties were invited to participate in this rulemaking effort by submitting written comments on the proposal to the FAA. No comments were received.

Class D airspace and Class E airspace designations are published in paragraphs 5000, 6002, 6004 and 6005, respectively, of FAA Order 7400.9X dated August 7, 2013, and effective September 15, 2013, which is incorporated by reference in 14 CFR 71.1. The Class D airspace and Class E airspace designations listed in this document will be published subsequently in that Order.

The Rule

This action amends Title 14 Code of Federal Regulations (14 CFR) Part 71 by establishing Class E airspace extending upward from 700 feet above the surface within a 13.1-mile radius of Salinas Municipal Airport, Salinas, CA. Additionally, the 10-mile southeast segment of Class E airspace designated as an extension to Class D surface area is modified from the 4.3-mile radius of the airport to 8 miles southeast of the airport. This modification eliminates the need for Class E airspace designated as surface airspace and is, therefore, removed. The geographic coordinates of the airport are updated in the respective Class D airspace and Class E airspace areas to coincide with the FAA's aeronautical database. This action is necessary for the safety and management of IFR operations.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified this rule, when promulgated, does not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends controlled airspace at Salinas Municipal Airport, Salinas, CA.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist, that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D AND E AIRSPACE AREAS; AIR TRAFFIC SERVICE ROUTES; AND REPORTING POINTS

1. The authority citation for 14 CFR Part 71 continues to read as follows:

Authority: 49 U.S.C. 106(g), 40103, 40113, 40120; E.O. 10854, 24 FR 9565, 3 CFR, 1959-1963 Comp., p. 389.

§ 71.1 [Amended]

2. The incorporation by reference in 14 CFR Part 71.1 of the Federal Aviation Administration Order 7400.9X, Airspace Designations and Reporting Points, dated August 7, 2013, and effective September 15, 2013 is amended as follows:

Paragraph 5000 Class D airspace.

* * * * *

AWP CA D Salinas, CA [Modified]

Salinas Municipal Airport, CA

(Lat. 36°39′46″ N., long. 121°36′23″ W.)

Airspace extending upward from the surface to, but not including 2,500 feet mean sea level within a 4.3-mile radius of the Salinas Municipal Airport. This Class D airspace area is effective during the specific dates and times established in advance by a Notice to Airmen. The effective date and time will thereafter be continuously published in the Airport/Facility Directory.

Paragraph 6002 Class E airspace designated as surface areas.

* * * * *

AWP CA E2 Salinas, CA [Removed]

Paragraph 6004 Class E airspace areas designated as an extension to Class D surface area.

* * * * *

AWP CA E4 Salinas, CA [Modified]

Salinas Municipal Airport, CA

(Lat. 36°39′46″ N., long. 121°36′23″ W.)

That airspace extending upward from the surface within 1.8 miles each side of the 150° bearing of the Salinas Municipal Airport extending from the 4.3-mile radius to 8 miles southeast of the airport. This Class E airspace area is effective during the dates and times established in advance by a Notice to Airmen. The effective date and time will thereafter be continuously published in the Airport/Facility Directory.

Paragraph 6005 Class E airspace areas extending upward from 700 feet or more above the surface of the earth.

* * * * *

AWP CA E5 Salinas, CA [New]

Salinas Municipal Airport, CA

(Lat. 36°39′46″ N., long. 121°36′23″ W.)

Airspace extending upward from 700 feet above the surface within a 13.1-mile radius of the Salinas Municipal Airport.

Issued in Seattle, Washington, on January 17, 2014.
Clark Desing,
Manager, Operations Support Group, Western Service Center.

[FR Doc. 2014-02044 Filed 1-31-14; 8:45 am]

BILLING CODE 4910-13-P